FEDERAL COMMUNICATIONS COMMISSION

[FR ID 307067]

Sunshine Act; Open Commission Meeting Thursday, August 07, 2025

July 31, 2025.

The Federal Communications Commission will hold an Open Meeting on the subjects listed below on Thursday, August 07, 2025, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireless Tele-Communications | Title: Revamping NEPA Review to Accelerate Infrastructure Deployment (WT Docket No. 25-217). Summary: The Commission will consider a Notice of Proposed Rulemaking that would examine the Commission's environmental rules to ensure they comport with the amended National Environmental Policy Act, accelerate the federal permitting process, further a national priority of faster and more infrastructure deployment, and ensure that the Commission's rules are clear.
2 | Space | Title: Expediting Initial Processing of Satellite and Earth Station Applications (IB Docket No. 22-411); Space Innovation (IB Docket No. 22-271). Summary: The Commission will consider a Second Report and Order that advances opportunities for innovation in the space economy by taking measures to expedite the application processes for space stations and earth stations, to remove barriers for modifying authorizations, and to remove outdated rules.
3 | International Affairs | Title: Review of Submarine Cable Landing License Rules and Procedures to Assess Evolving National Security, Law Enforcement, Foreign Policy, and Trade Policy Risks (OI Docket No. 24-523); Amendment of the Schedule of Application Fees Set Forth in Sections 1.1102 through 1.1109 of the Commission's Rules (MD Docket No. 24-524). Summary: The Commission will consider a Report and Order that would modernize the Commission's submarine cable rules to unleash high-speed infrastructure deployment, while strengthening our national security. The Commission will also consider a Further Notice of Proposed Rulemaking that would build upon the Report and Order by proposing measures to further streamline and improve timeliness of submarine cable application review and make other updates to address national security threats.
4 | Wireline Competition | Title: Evaluating the Deployment of Advanced Telecommunications (GN Docket No. 25-223). Summary: The Commission will consider a Notice of Inquiry that would initiate the annual assessment of whether advanced telecommunications capability is being deployed to all Americans in a reasonable and timely fashion, as required by section 706 of the Telecommunications Act of 1996.
5 | Public Safety and Homeland Security | Title: Examining the Nation's Alerting Systems (PS Docket No. 25-224). Summary: The Commission will consider a Notice of Proposed Rulemaking that would examine the national alert and warning systems from the ground up and explore ways to make them more effective, efficient, and better able to serve the public's needs.
6 | Public Safety and Homeland Security | Title: Resilient Networks (PS Docket No. 21-346); Amendments to Part 4 of the Commission's Rules Concerning Disruptions to Communications (PS Docket No.15-80); New Part 4 of the Commission's Rules Concerning Disruptions to Communications (ET Docket No. 04-35). Summary: The Commission will consider a Notice of Proposed Rulemaking that proposes to reduce the reporting burdens on communication service providers during disasters through the modernization of DIRS. The Commission will also consider an accompanying Order on Reconsideration that clarifies the situations in which outage reporting requirements are suspended during DIRS activations.
7 | Wireline Competition | Title: Price Cap Business Data Services (WC Docket No. 21-17); Regulation of Business Data Services for Rate-of-Return Local Exchange Carriers (WC Docket No. 17-144). Summary: The Commission will consider a Notice of Proposed Rulemaking and Third Further Notice of Proposed Rulemaking that would propose to end rate regulation and tariffing obligations for legacy circuit-based business data services provided by incumbent local exchange carriers, and an Order temporarily pausing the triennial update to the competitive market tests pending review of the record in this proceeding.
8 | Media | Title: Deleting 98 Obsolete Broadcast Rules and Requirements (GN Docket No. 25-133). Summary: The Commission will consider a Direct Final Rule that would repeal certain rules identified as outdated and obsolete via a direct final rule procedure. The Commission's “In re: Delete, Delete, Delete” docket seeks public input on identifying FCC rules for the purpose of alleviating unnecessary regulatory burdens.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Katura Jackson,
Federal Register Liaison Officer.

[FR Doc. 2025-14947 Filed 8-4-25; 4:15 pm]

BILLING CODE 6712-01-P